DEPARTMENT OF AGRICULTURE

Food and Nutrition Service

7 CFR Part 250

Donation of Foods for Use in the United States, Its Territories and Possessions and Areas Under Its Jurisdiction

CFR Correction

In Title 7 of the Code of Federal Regulations, Parts 210 to 299, revised as of January 1, 2015, on page 566, in § 250.30, in paragraph (f)(2), in the second sentence, add the word “food” after “donated” and before the comma.

[FR Doc. 2015-32140 Filed 12-21-15; 8:45 am]

BILLING CODE 1505-01-D